DEPARTMENT OF THE TREASURY

Departmental Offices; Submission for OMB Review, Comment Request

ACTION: 30-Day Notice of Information Collection Under Review: Consumer Financial Protection Bureau Consumer Response Intake Fields.

SUMMARY: The Department of the Treasury, on behalf of itself and the Consumer Financial Protection Bureau (CFPB), will submit the following information collection request to the Office of Management and Budget (OMB) for review and approval in accordance with the Paperwork Reduction Act of 1995, Public Law 104-13 (44 U.S.C. 3507) on or after the date of publication of this notice. The CFPB is soliciting comments regarding forms for questions, complaints, and other information about consumer financial products and services.

DATES: Written comments are encouraged and must be received on or before August 1, 2011 to be assured of consideration.

ADDRESSES: Comments regarding this information collection should be addressed to the OMB Reviewer listed below and to the Treasury Department PRA Clearance Officer, Department of the Treasury, Room 11000, 1750 Pennsylvania Avenue, NW., Washington, DC 20220.

FOR FURTHER INFORMATION CONTACT: Copies of the submission(s) may be obtained by contacting Darian Dorsey, Consumer Financial Protection Bureau, Consumer Response, 1801 L Street, NW., Washington, DC 20036, by telephone at (202) 435-7070 or by e-mail at darian.dorsey@treasury.gov.

SUPPLEMENTARY INFORMATION: Title: Consumer Financial Protection Bureau Consumer Response Intake Fields.

OMB Control Number: New.

Abstract: The Dodd-Frank Wall Street Reform and Consumer Protection Act, Public Law 111-203, Title X, established the CFPB. Among the CFPB's functions is to facilitate the centralized collection of, monitoring of, and response to complaints concerning consumer financial products and services. In order to collect data about the consumer financial market and facilitate the appropriate routing of, handling of, and response to complaints, questions, and other information concerning consumer financial products and services, the CFPB is developing online and paper intake methods which will have fields for persons to complete. The forms will help document information such as the type of contact; the substance of the complaint, question, or other information; contact information for the person making the contact and/or related persons; information about any subject incident and institution; and identifying information about the consumer or consumer's household.

Type Of Review: New collection.

Affected Public: Individuals and households with questions, complaints, and other information about consumer financial products and services.

Estimated Number of Respondents: Approximately 1-3 million per year. The CFPB's intake of complaints, questions, and other information relating to consumer financial products and services is a new collection that may centralize intake now performed by existing agencies. As such, the projections of the number of respondents have a high level of uncertainty.

Estimated Average Time per Respondent: 7 to 10 minutes per response. The time to complete the form will depend on the nature of the contact and the intake method. Simple feedback may take as little as a few minutes to complete while more complicated complaints could take longer to describe.

Estimated Total Annual Burden Hours: Approximately 387,500 burden hours.

Treasury Department PRA Clearance Officer: Robert Dahl, Department of the Treasury, Room 11000, 1750 Pennsylvania Avenue, NW., Washington, DC 20220.

OMB Reviewer: Shagufta Ahmed, Office of Management and Budget, New Executive Office Building, Room 10235, Washington, DC 20503; (202) 395-7873.

Robert Dahl,
Treasury Department PRA Clearance Officer.

[FR Doc. 2011-16382 Filed 6-29-11; 8:45 am]

BILLING CODE 4810-25-P